DEPARTMENT OF ENERGY

Federal Energy Regulatory Commission

Combined Notice of Filings #1

August 29, 2008.

Take notice that the Commission received the following electric corporate filings:

Docket Numbers: EC08-119-000.

Applicants: Tiverton Power Inc., Rumford Power Inc.

Description: Application of Rumford Power Inc. and Tiverton Power Inc. under section 203 of FPA to Transfer Control.

Filed Date: 08/20/2008.

Accession Number: 20080820-5114.

Comment Date: 5 p.m. Eastern Time on Wednesday, September 10, 2008.

Take notice that the Commission received the following electric rate filings:

Docket Numbers: ER08-1356-001.

Applicants: Maine Yankee Atomic Power Company.

Description: Maine Yankee Atomic Power Co. submits an amendment to the 8/1/08 filing of Third Revised Rate Schedule FERC No. 1.

Filed Date: 08/27/2008.

Accession Number: 20080828-0104.

Comment Date: 5 p.m. Eastern Time on Wednesday, September 17, 2008.

Docket Numbers: ER08-1445-000.

Applicants: American Electric Power Service Corporate.

Description: AEP Operating Companies submits an eighth revision to the Interconnection and Local Delivery Agreement between AEP and the Blue Ridge Power Authority.

Filed Date: 08/26/2008.

Accession Number: 20080828-0106.

Comment Date: 5 p.m. Eastern Time on Tuesday, September 16, 2008.

Docket Numbers: ER08-1446-000.

Applicants: PacifiCorp.

Description: PacifiCorp submits revisions to its FERC Electric Tariff, Seventh Revised Volume 11.

Filed Date: 08/26/2008.

Accession Number: 20080828-0107.

Comment Date: 5 p.m. Eastern Time on Tuesday, September 16, 2008.

Docket Numbers: ER08-1447-000.

Applicants: NaturEner Glacier Wind Energy 1, LLC.

Description: NaturEner Glacier Wind Energy 1, LLC submits an executed Coordinated Operating Agreement.

Filed Date: 08/26/2008.

Accession Number: 20080828-0105.

Comment Date: 5 p.m. Eastern Time on Tuesday, September 16, 2008.

Docket Numbers: ER08-1448-000.

Applicants: Southern Company Services, Inc.

Description: Southern Companies submits a table showing each of the applicable Southern Companies 2007 actual accruals for PBOP costs and projected accruals for 2008, and independent actuarial assumptions and serve as a basis for the 2008 projections under ER08-1448.

Filed Date: 08/27/2008.

Accession Number: 20080828-0102.

Comment Date: 5 p.m. Eastern Time on Wednesday, September 17, 2008.

Docket Numbers: ER08-1449-000.

Applicants: Tieton Hydropower, LLC.

Description: Tieton Hydropower, LLC submits its non-confirming Initial Transmission Rate Schedule FERC No. 1.

Filed Date: 08/27/2008.

Accession Number: 20080828-0103.

Comment Date: 5 p.m. Eastern Time on Wednesday, September 17, 2008.

Docket Numbers: ER08-1450-000.

Applicants: NorthWestern Corporation.

Description: NorthWestern Corporation submits an executed Large Generator Interconnection Agreement between North Western and NaturEner Glacier Wind Energy 1, LLC.

Filed Date: 08/26/2008.

Accession Number: 20080828-0108.

Comment Date: 5 p.m. Eastern Time on Tuesday, September 16, 2008.

Take notice that the Commission received the following electric securities filings:

Docket Numbers: ES08-59-000.

Applicants: AEP Generating Company.

Description: Application of AEP Generating Company under section 204 of the Federal Power Act for Authorization to Issue Securities.

Filed Date: 08/21/2008.

Accession Number: 20080821-5032.

Comment Date: 5 p.m. Eastern Time on Thursday, September 11, 2008.

Take notice that the Commission received the following open access transmission tariff filings:

Docket Numbers: OA08-32-002.

Applicants: PJM Interconnection, LLC.

Description: Supplemental Information of PJM Interconnection L.L.C. re the second compliance filing to PJM's transmission planning process to reflect further revisions to Schedule 6.

Filed Date: 08/13/2008.

Accession Number: 20080813-5111.

Comment Date: 5 p.m. Eastern Time on Tuesday, September 9, 2008.

Docket Numbers: OA08-58-002.

Applicants: ISO New England Inc.

Description: ISO New England Inc. et al. submits proposed revisions to Appendix 1 to Attachment K of its Open Access Transmission Tariff etc., to comply with FERC's order issued on 5/15/08 under OA08-58.

Filed Date: 08/13/2008.

Accession Number: 20080828-0211.

Comment Date: 5 p.m. Eastern Time on Tuesday, September 9, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Kimberly D. Bose,
Secretary.

[FR Doc. E8-20549 Filed 9-4-08; 8:45 am]

BILLING CODE 6717-01-P